OFFICE OF THE UNITED STATES TRADE REPRESENTATIVE

Generalized System of Preferences (GSP): Request for Public Comments on the Possible Withdrawal or Suspension of GSP Benefits With Respect to Romania

AGENCY: Office of the United States Trade Representative.

ACTION: Notice and solicitation of public comment.

SUMMARY: As part of an ongoing country practice review, the GSP Subcommittee of the Trade Policy Staff Committee (TPSC) is considering whether to recommend that duty-free treatment accorded to imports from Romania under the U.S. GSP program be withdrawn or suspended on the grounds that Romania affords preferential treatment to the products of a developed country, other than the United States, which has, or is likely to have, a significant adverse effect on United States commerce. In addition, Romania adopted Veterinary Order 95 which includes requirements that: (1) Individual U.S. poultry plants must be approved for export to the EU; and (2) U.S. poultry producers must abide by EU welfare rules for slaughter. There are no EU-approved poultry facilities in the United States.

The GSP Subcommittee is seeking public comments on whether, in view of the information provided in the petition, implementation of this new measure, and any additional information pertaining to the eligibility criteria set forth in the statute, Romania no longer meets one or more statutory criteria for GSP eligibility. All public comments must be received by Thursday, September 7, 2006.

ADDRESSES: Submit comments by electronic mail (e-mail) to: FR0618@ustr.eop.gov. For assistance or if unable to submit comments by e-mail, contact the GSP Subcommittee, Office of the United States Trade Representative; USTR Annex, Room F-220; 1724 F Street, NW., Washington, DC 20508 (Tel. 202-395-6971).

FOR FURTHER INFORMATION CONTACT: Contact the GSP Subcommittee, Office of the United States Trade Representative; USTR Annex, Room F-220; 1724 F Street, NW.; Washington, DC 20508 (Telephone: 202-395-6971, Facsimile: 202-395-9481).

SUPPLEMENTARY INFORMATION: The GSP program is authorized pursuant to Title V of the Trade Act of 1974, as amended (“the Trade Act”) (19 U.S.C. 2461 et seq.). The GSP program grants duty-free treatment to designated eligible articles that are imported from designated beneficiary developing countries. Once granted, GSP benefits may be withdrawn, suspended, or limited by the President with respect to any country. (19 U.S.C. 2462(d)(1)). Romania is a designated beneficiary developing country under the GSP program.

Possible Withdrawal or Suspension of GSP Benefits for Romania

In 2002, the GSP Subcommittee received a petition from the Distilled Spirits Council of the United States and the Pharmaceutical Research and Manufacturers of America (PhRMA) requesting that Romania's eligibility for GSP benefits be terminated because Romania granted tariff preferences to EU distilled spirits and certain pharmaceuticals which have, or are likely to have, a significant adverse effect on United States commerce. These petitions were accepted for review in the 2005 Annual Review. On June 2, 2006, Romania adopted Veterinary Order 95. This Order affects all poultry meat shipments loaded for shipment to Romania after June 7, 2006, and includes requirements that: (1) Individual U.S. poultry plants must be approved for export to the EU; and (2) U.S. poultry producers must abide by EU welfare rules for slaughter. Romania will allow poultry certified under previous regulations until August 5, 2006.

Requirements for Submissions

All submissions must conform to the GSP regulations set forth at 15 CFR Part 2007, except as modified below. Comments must be submitted, in English, to the Chairman of the GSP Subcommittee of the Trade Policy Staff Committee (TPSC) as soon as possible, but not later than 5 p.m., September 7, 2006.

In order to facilitate prompt consideration of submissions, USTR strongly prefers electronic e-mail submissions in response to this notice. Hand-delivered submissions will not be accepted. E-mail submissions should be single-copy transmissions in English with the total submission, including attachments, not to exceed 30 single-spaced standard letter-size pages using 12-point type. The e-mail transmission should use the following subject line: “Romania GSP Eligibility Review”. Documents must be submitted as MSWord (“.doc”), WordPerfect (“.wpd”), or text (“.txt”) files. Documents submitted as electronic image files or containing imbedded images (for example, “.jpg”, “.pdf”, “.bmp”, “.tif”, or “.gif”) will not be accepted. Spreadsheets submitted as supporting documentation are acceptable as Excel files, pre-formatted for printing only on 8 ½ x 11 inch paper. To the extent possible, any data attachments to the submission should be included in the same file as the submission itself, and not as separate files.

Submissions in response to this notice will be subject to public inspection by appointment with the staff of the USTR Public Reading Room except for information granted “business confidential” status pursuant to 15 CFR 2003.6.

If the submission contains business confidential information, a non-confidential version of the submission must also be submitted that indicates where confidential information was redacted by inserting asterisks where material was deleted. In addition, the confidential version must be clearly marked “BUSINESS CONFIDENTIAL” at the top and bottom of each page of the document. The non-confidential version must be clearly marked “PUBLIC” or “NON-CONFIDENTIAL” at the top and bottom of each page. Documents that are submitted without any marking might not be accepted or will be considered public documents.

For any document containing business confidential information submitted as an electronic attached file to an e-mail transmission, the file name of the business confidential version should begin with the characters “BC-”, and the file name of the public version should begin with the character “P-”. The “BC-” or “P-” should be followed by the name of the party (government, company, union, association, etc.) which is submitting the comments.

E-mail submissions should not include separate cover letters or messages in the message area of the e-mail; information that might appear in any cover letter should be included directly in the attached file containing the submission itself, including the sender's identifying information with telephone number, fax number, and e-mail address. The e-mail address for these submissions is FR0618@ustr.eop.gov. Documents not submitted in accordance with these instructions might not be considered in this review. If unable to provide submissions by e-mail, please contact the GSP Subcommittee to arrange for an alternative method of transmission.

Public versions of all documents relating to this review will be available for public review approximately three weeks after the due date by appointment in the USTR Public Reading Room, 1724 F Street, NW, Washington, DC. Availability of documents may be ascertained, and appointments may be made from 9:30 a.m. to noon and 1 p.m. to 4 p.m., Monday through Friday, by calling 202-395-6186.

Marideth J. Sandler,
Executive Director for the GSP Program, Chairman, GSP Subcommittee of the Trade Policy Staff Committee.

[FR Doc. E6-12833 Filed 8-7-06; 8:45 am]

BILLING CODE 3190-W6-P